DEPARTMENT OF ENERGY

Federal Energy Regulatory Commission

Combined Notice of Filings #1

Take notice that the Commission received the following exempt wholesale generator filings:

Docket Numbers: EG20-108-000.

Applicants: Yards Creek Energy, LLC.

Description: Notice of Self-Certification of Exempt Wholesale Generator Status.

Filed Date: 3/30/20.

Accession Number: 20200330-5268.

Comments Due: 5 p.m. ET 4/20/20.

Take notice that the Commission received the following electric rate filings:

Docket Numbers: ER15-1883-008; ER15-1418-008; ER18-2118-006; ER19-2373-001; ER10-2005-018; ER11-26-018; ER10-2551-015; ER12-569-021; ER16-91-008; ER16-632-006; ER20-819-001; ER20-820-001; ER15-1925-014; ER16-2453-011; ER16-2190-010; ER16-2191-010; ER19-2901-002; ER10-1841-018; ER15-2582-007; ER18-1978-005; ER15-2676-013; ER16-1672-011; ER13-712-022; ER18-1863-005; ER17-2152-007; ER19-2461-001; ER19-987-005; ER19-1003-005; ER10-1845-018; ER19-2269-001; ER10-1846-014; ER13-1991-013; ER13-1992-013; ER18-1534-005; ER18-882-006; ER10-1849-020; ER19-2437-001; ER19-1393-005; ER19-1394-005; ER13-752-012; ER12-2227-020; ER10-1851-012; ER10-1852-036; ER10-1855-013; ER10-1857-013; ER10-1887-020; ER10-1890-014; ER10-1899-013; ER11-2160-014; ER10-1905-018; ER10-1907-017; ER10-1918-018; ER10-1920-021; ER10-1925-018; ER10-1927-018; ER10-1928-021; ER11-2642-015.

Applicants: Adelanto Solar, LLC, Adelanto Solar II, LLC, Armadillo Flats Wind Project, LLC, Ashtabula Wind I, LLC, Ashtabula Wind II, LLC, Ashtabula Wind III, LLC, Baldwin Wind, LLC, Blackwell Wind, LLC, Blythe Solar 110, LLC, Blythe Solar II, LLC, Blythe Solar III, LLC, Blythe Solar IV, LLC, Breckinridge Wind Project, LLC, Brady Interconnection, LLC, Brady Wind, LLC, Brady Wind II, LLC, Bronco Plains Wind, LLC, Butler Ridge Wind Energy Center, LLC, Carousel Wind Farm, LLC, Casa Mesa Wind, LLC, Cedar Bluff Wind, LLC, Chaves County Solar, LLC, Cimarron Wind Energy, LLC, Coolidge Solar I, LLC, Cottonwood Wind Project, LLC, Crowned Ridge Wind, LLC, Crystal Lake Wind III, LLC, Dougherty County Solar, LLC, Day County Wind, LLC Desert Sunlight 250, LLC, Desert Sunlight 300, LLC, East Hampton Energy Storage Center, LLC, Elk City Renewables II, LLC, Elk City Wind, LLC, Emmons-Logan Wind, LLC, Endeavor Wind I, LLC, Endeavor Wind II, LLC, Energy Storage Holdings, LLC, Ensign Wind, LLC, ESI Vansycle Partners, L.P., Florida Power & Light Company, FPL Energy Burleigh County Wind, LLC, FPL Energy Cape, LLC, FPL Energy Cowboy Wind, LLC, FPL Energy Green Power Wind, LLC, FPL Energy Illinois Wind, LLC, FPL Energy Montezuma Wind, LLC, FPL Energy Mower County, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC.

Description: Notice of Change in Status of the NextEra MBR Sellers (Part 1), et al.

Filed Date: 3/27/20.

Accession Number: 20200327-5332.

Comments Due: 5 p.m. ET 4/17/20.

Docket Numbers: ER10-1930-012; ER10-1931-013; ER10-1932-013; ER10-1935-013; ER13-2147-001; ER10-1950-018; ER13-2112-009; ER16-90-007; ER17-2340-004; ER15-2477-007; ER15-2101-008; ER10-1952-019; ER19-2389-002; ER15-2601-005; ER18-1952-007; ER19-2398-002; ER11-3635-013; ER10-2006-018; ER18-2246-006; ER19-1392-004; ER10-1961-019; ER12-1228-021; ER10-1962-013; ER16-2275-009; ER16-2276-009; ER10-1964-016; ER18-1771-007; ER12-2226-011; ER12-2225-011; ER14-2138-008; ER16-1354-007; ER10-1966-012; ER18-2003-005; ER17-822-005; ER17-823-005; ER18-241-004; ER14-2707-016; ER14-1630-009; ER16-1872-008; ER15-1375-007; ER15-2602-005; ER10-2720-021; ER11-4428-021; ER12-1880-020; ER18-2182-005; ER12-895-019; ER18-1535-004; ER14-21-007; ER11-4462-041; ER18-772-004; ER16-2443-004; ER17-1774-003; ER10-1970-017; ER11-4677-014; ER10-1972-017; ER17-838-016; ER10-1973-012; ER10-1951-020; ER10-1974-023; ER16-2241-009.

Applicants: FPL Energy Stateline II, Inc., FPL Energy Stateline II, Inc., FPL Energy Vansycle, L.L.C, FPL Energy Wyman, LLC, FPL Energy Wyman IV, LLC, Frontier Utilities Northeast LLC, Garden Wind, LLC, Genesis Solar, LLC, Golden Hills Interconnection, LLC, Golden Hills North Wind, LLC, Golden Hills Wind, LLC, Golden West Power Partners, LLC, Gray County Wind Energy, LLC, Grazing Yak Solar, LLC, Green Mountain Storage, LLC, Gulf Power Company, LLC, Hancock County Wind, LLC, Hatch Solar Energy Center I, LLC, Hawkeye Power Partners, LLC, Heartland Divide Wind Project, LLC, High Lonesome Mesa Wind, LLC, High Majestic Wind Energy Center, LLC, High Majestic Wind II, LLC, High Winds, LLC, Kingman Wind Energy I, LLC, Kingman Wind Energy II, LLC, Lake Benton Power Partners II, LLC, Langdon Renewables, LLC, Limon Wind, LLC, Limon Wind II, LLC, Limon Wind III, LLC, Live Oak Solar, LLC, Logan Wind Energy LLC, Lorenzo Wind, LLC, Luz Solar Partners Ltd., III, Luz Solar Partners Ltd., IV, Luz Solar Partners Ltd., V, Mammoth Plains Wind Project, LLC, Manuta Creek Solar, LLC, Marshall Solar, LLC, McCoy Solar, LLC, Meyersdale Storage, LLC, Minco Wind, LLC, Minco Wind II, LLC, Minco Wind III, LLC, Minco IV & V Interconnection, LLC, Minco Wind Interconnection Services, LLC, Montauk Energy Storage Center, LLC, Mountain View Solar, LLC, NEPM II, LLC, New Mexico Wind, LLC, NextEra Blythe Solar Energy Center, LLC, NextEra Energy Bluff Point, LLC, NextEra Energy Duane Arnold, LLC, NextEra Energy Montezuma II Wind, LLC, NextEra Energy Point Beach, LLC, NextEra Energy Marketing, LLC, NextEra Energy Seabrook, LLC, NextEra Energy Services Massachusetts, LLC, Northeast Energy Associates, A Limited Partnership, Ninnescah Wind Energy, LLC.

Description: Notice of Change in Status of the NextEra MBR Sellers (Part 2), et al.

Filed Date: 3/27/20.

Accession Number: 20200327-5336.

Comments Due: 5 p.m. ET 4/17/20.

Docket Numbers: ER19-1195-001.

Applicants: GSG 6, LLC.

Description: Report Filing: Refund Report per Settlement (ER19-1195) to be effective N/A.

Filed Date: 3/30/20.

Accession Number: 20200330-5196.

Comments Due: 5 p.m. ET 4/20/20.

Docket Numbers: ER20-1074-001.

Applicants: Marsh Landing LLC.

Description: Tariff Amendment: Amendment to Filing of Black Start Agreement to be effective 4/26/2020.

Filed Date: 3/30/20.

Accession Number: 20200330-5302.

Comments Due: 5 p.m. ET 4/6/20.

Docket Numbers: ER20-1422-000.

Applicants: AEP Texas Inc.

Description: § 205(d) Rate Filing: AEPTX-Taylor EC-Golden Spread EC 5th A&R Interconnection Agreement to be effective 3/12/2020.

Filed Date: 3/30/20.

Accession Number: 20200330-5187.

Comments Due: 5 p.m. ET 4/20/20.

Docket Numbers: ER20-1423-000.

Applicants: PJM Interconnection, L.L.C.

Description: § 205(d) Rate Filing: Original WMPA, Service Agreement No. 5608; Queue No. AE1-218 to be effective 3/5/2020.

Filed Date: 3/30/20.

Accession Number: 20200330-5213.

Comments Due: 5 p.m. ET 4/20/20.

Docket Numbers: ER20-1424-000.

Applicants: Yards Creek Energy, LLC.

Description: Baseline eTariff Filing: Reactive Service Rate Schedule to be effective 12/31/9998.

Filed Date: 3/30/20.

Accession Number: 20200330-5214.

Comments Due: 5 p.m. ET 4/20/20.

Docket Numbers: ER20-1425-000.

Applicants: Jersey Central Power & Light Company.

Description: § 205(d) Rate Filing: Rate changes to be effective 2/27/2020.

Filed Date: 3/30/20.

Accession Number: 20200330-5216.

Comments Due: 5 p.m. ET 4/20/20.

Docket Numbers: ER20-1426-000.

Applicants: Monongahela Power Company.

Description: § 205(d) Rate Filing: Rate changes 2020 to be effective 2/27/2020.

Filed Date: 3/30/20.

Accession Number: 20200330-5217.

Comments Due: 5 p.m. ET 4/20/20.

Docket Numbers: ER20-1427-000.

Applicants: Pennsylvania Electric Company.

Description: § 205(d) Rate Filing: Rate changes 2020 to be effective 2/27/2020.

Filed Date: 3/30/20.

Accession Number: 20200330-5225.

Comments Due: 5 p.m. ET 4/20/20.

Docket Numbers: ER20-1428-000.

Applicants: The Cleveland Electric Illuminating Comp.

Description: § 205(d) Rate Filing: Normal Rate Schedule changes 2020 to be effective 2/27/2020.

Filed Date: 3/30/20.

Accession Number: 20200330-5234.

Comments Due: 5 p.m. ET 4/20/20.

Docket Numbers: ER20-1429-000.

Applicants: PJM Interconnection, L.L.C., Buckeye Power, Inc.

Description: § 205(d) Rate Filing: Revised SA No. 4753—NITSA Among PJM and Buckeye Power, Inc. to be effective 3/1/2020.

Filed Date: 3/30/20.

Accession Number: 20200330-5236.

Comments Due: 5 p.m. ET 4/20/20.

Docket Numbers: ER20-1430-000.

Applicants: Ohio Edison Company.

Description: § 205(d) Rate Filing: Normal Rate Schedule changes 2020 to be effective 2/27/2020.

Filed Date: 3/30/20.

Accession Number: 20200330-5237.

Comments Due: 5 p.m. ET 4/20/20.

Docket Numbers: ER20-1431-000.

Applicants: The Toledo Edison Company.

Description: § 205(d) Rate Filing: Normal Rate Schedule changes 2020 to be effective 2/27/2020.

Filed Date: 3/30/20.

Accession Number: 20200330-5239.

Comments Due: 5 p.m. ET 4/20/20.

Docket Numbers: ER20-1432-000.

Applicants: Pennsylvania Power Company.

Description: § 205(d) Rate Filing: Normal Rate Schedule changes 2020 to be effective 2/27/2020.

Filed Date: 3/30/20.

Accession Number: 20200330-5244.

Comments Due: 5 p.m. ET 4/20/20.

Docket Numbers: ER20-1433-000.

Applicants: Metropolitan Edison Company.

Description: § 205(d) Rate Filing: Normal Rate Schedule changes 2020 to be effective 2/27/2020.

Filed Date: 3/30/20.

Accession Number: 20200330-5245.

Comments Due: 5 p.m. ET 4/20/20.

Docket Numbers: ER20-1434-000.

Applicants: Central Maine Power Company.

Description: § 205(d) Rate Filing: First Amendment to Sappi North America, Inc. Interconnection Agreement to be effective 2/29/2020.

Filed Date: 3/30/20.

Accession Number: 20200330-5283.

Comments Due: 5 p.m. ET 4/20/20.

Docket Numbers: ER20-1435-000.

Applicants: Energy Harbor LLC.

Description: Compliance filing: Notice of Succession and Requests for Administrative Cancellation and Waiver to be effective 2/27/2020.

Filed Date: 3/30/20.

Accession Number: 20200330-5334.

Comments Due: 5 p.m. ET 4/20/20.

Docket Numbers: ER20-1436-000.

Applicants: Energy Harbor LLC.

Description: Compliance filing: Notice of Succession and Revisions to Market-Based Rate Tariff to be effective 2/27/2020.

Filed Date: 3/30/20.

Accession Number: 20200330-5335.

Comments Due: 5 p.m. ET 4/20/20.

Docket Numbers: ER20-1437-000.

Applicants: Energy Harbor Generation LLC.

Description: Compliance filing: Notice of Succession and Revisions to Market-Based Rate Tariff to be effective 2/27/2020.

Filed Date: 3/30/20.

Accession Number: 20200330-5352.

Comments Due: 5 p.m. ET 4/20/20.

Docket Numbers: ER20-1438-000.

Applicants: Energy Harbor Nuclear Generation LLC.

Description: Compliance filing: Notice of Succession and Revisions to Market-Based Rate Tariff to be effective 2/27/2020.

Filed Date: 3/30/20.

Accession Number: 20200330-5324.

Comments Due: 5 p.m. ET 4/20/20.

Docket Numbers: ER20-1439-000.

Applicants: Pleasants Corp..

Description: Tariff Cancellation: Notice of Cancellation of Market-Based Rate Tariff to be effective 3/31/2020.

Filed Date: 3/30/20.

Accession Number: 20200330-5329.

Comments Due: 5 p.m. ET 4/20/20.

Docket Numbers: ER20-1440-000.

Applicants: Yards Creek Energy, LLC.

Description: § 205(d) Rate Filing: Application for Market-Based Rate Authorization and Request for Waivers to be effective 12/31/9998.

Filed Date: 3/30/20.

Accession Number: 20200330-5338.

Comments Due: 5 p.m. ET 4/20/20.

Docket Numbers: ER20-1441-000.

Applicants: PSEG Energy Resources & Trade LLC.

Description: Tariff Cancellation: Cancellation of Yards Creek to be effective 12/31/9998.

Filed Date: 3/30/20.

Accession Number: 20200330-5347.

Comments Due: 5 p.m. ET 4/20/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 31, 2020.
Nathaniel J. Davis, Sr.,
Deputy Secretary.

[FR Doc. 2020-07195 Filed 4-6-20; 8:45 am]

BILLING CODE 6717-01-P